DEPARTMENT OF THE INTERIOR

Bureau of Land Management

[L12200000.AL0000/LLCAC05000]

Notice of Intent To Amend the Resource Management Plan for the California Coastal Monument for the Inclusion of the Point Arena-Stornetta Unit and Prepare an Associated Environmental Assessment

AGENCY: Bureau of Land Management, Interior.

ACTION: Notice of intent.

SUMMARY: In compliance with the National Environmental Policy Act of 1969, as amended (NEPA), and the Federal Land Policy and Management Act of 1976, as amended (FLPMA), the Bureau of Land Management (BLM) Ukiah Field Office, Ukiah, California intends to prepare a Resource Management Plan (RMP) amendment with an associated Environmental Assessment (EA) for the California Coastal National Monument (CCNM) and by this notice is announcing the beginning of a scoping process to solicit public comments and identify issues.

DATES: This notice initiates the public scoping process for the RMP amendment and associated EA. The date(s) and location(s) of any scoping meetings will be announced at least 15 days in advance through the local news media, newspapers and the BLM Web site at: http://www.blm.gov/ca/ukiah. In order to be included in the analysis, all written comments must be received prior to the close of the 30-day scoping period or 15 days after the last public meeting, whichever is later. We will provide additional opportunities for public participation as appropriate.

ADDRESSES: You may submit comments on issues and the planning criteria related to the RMP Amendment and EA by the following methods:

• Web site: http://www.blm.gov/ca/ukiah.

• email: BLM Ukiah Field Office at blm_ca_ukiah_point_arena_stornetta_planning@blm.gov.

• fax: 707-468-4027.

• mail: Ukiah Field Office, 2550 North State Street, Ukiah, CA 95482.

Documents pertinent to this proposal may be examined at the Ukiah Field Office, 2550 North State Street, Ukiah, CA 95482.

FOR FURTHER INFORMATION CONTACT: Jonna Hildenbrand, Planning and Environmental Coordinator, telephone 707-468-4000; address Bureau of Land Management, 2550 North State Street, Ukiah, CA 95482; or email blm_ca_ukiah_point_arena_stornetta_planning@blm.gov. Contact Ms. Hildenbrand to have your name added to our mailing list. Persons who use a telecommunication device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM approved the Record of Decision (ROD) for the California Coastal National Monument RMP on September 2005. On March 11, 2014, the Point Arena-Stornetta Management Area was included as the first mainland based portion of the California Coastal National Monument by Presidential Proclamation and named the Point Arena-Stornetta Unit of the California Coastal National Monument. The RMP amendment will incorporate relevant new information to provide management goals and objectives, and to identify allowable uses of the area, consistent with current management documents, including the Presidential Proclamation, Deed Restrictions of the transfer of the property, the existing CCNM RMP, and BLM Manual 6620 (National Monuments, National Conservation Areas, and Similar Designations).

The planning area is in Mendocino County and encompasses 1,665 acres of public land. The purpose of the public scoping process is to determine relevant issues that will inform the scope of the environmental analysis, including alternatives, and guide the planning process. Preliminary issues for the plan amendment area have been identified by the BLM; Federal, State, and local agencies; and other stakeholders. The issues include recreation management, travel management, access, livestock grazing and potential new land use authorizations such as rights-of-ways.

Preliminary planning criteria include:

1. The BLM will comply with FLPMA, NEPA, the Presidential Proclamation, Deed Restrictions at the time of transfer of the property and all other applicable laws;

2. The BLM will coordinate with local and county governments for analysis of economic and social impacts;

3. The BLM will conduct government-to-government consultation with federally recognized tribes;

4. The BLM will comply with Rangeland Health Standards and Guidelines; and

5. The BLM will consider the cost-effectiveness of proposed actions and alternatives.

You may submit comments on issues and planning criteria in writing to the BLM at any public scoping meeting, or you may submit them to the BLM using one of the methods listed above in the ADDRESSES section.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources. The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

BLM will evaluate identified issues to be addressed in the plan, and will place them into one of three categories:

1. Issues to be resolved in the plan amendment;

2. Issues to be resolved through policy or administrative action; or

3. Issues beyond the scope of this plan amendment.

The BLM will provide an explanation in the EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: Rangeland management, minerals and geology, outdoor recreation, archaeology, wildlife and fisheries, lands and realty, hydrology, soils, and sociology and economics.

Authority: 40 CFR 1501.7 and 43 CFR 1610.2.

Rich Burns,
Ukiah Field Manager.

[FR Doc. 2015-12360 Filed 5-20-15; 8:45 am]

BILLING CODE 4310-40-P